DEPARTMENT OF ENERGY

Federal Energy Regulatory Commission

[Docket No. IN03-11-000]

CenterPoint Energy Gas Transmission Company; Notice of Filing

April 28, 2004.

Take notice that on April 5, 2004, CenterPoint Energy Gas Transmission Company (CEGT) tendered for filing pursuant to section IV., paragraph 2 of a Stipulation and Consent Agreement (Settlement) approved by Commission Order in this proceeding issued March 4, 2004, an informational filing containing a list of contract provisions cited in Appendix A of the Settlement, together with a detailed narrative for each provision, as further specified in the Settlement. CEGT states that the detailed narrative outlines the manner in which the listed contract terms differ from the form of service agreements found in CEGT's tariff in effect at the time the contract terms were entered into, the effect of such terms on the rights of the parties, and why such deviations from the standard form of service agreements does not present a risk of undue discrimination.

This filing is available for review at the Commission in the Public Reference Room or may be viewed on the Commission's Web site at http://www.ferc.gov using the eLibrary link. Enter the docket number excluding the last three digits in the docket number filed to access the document. For assistance, please contact FERC Online Support at FERCOnlineSupport@ferc.gov or toll-free (866) 208-3676 or TTY, (202) 502-8659.

CEGT states that this filing is also available for public inspection during regular business hours at their offices at 525 Milam, Shreveport, Louisiana.

Linda Mitry,
Acting Secretary.

[FR Doc. E4-1023 Filed 5-4-04; 8:45 am]

BILLING CODE 6717-01-P